DEPARTMENT OF COMMERCE

Membership of the Departmental Performance Review Board

AGENCY: Department of Commerce.

ACTION: Notice of membership on the Departmental Performance Review Board.

SUMMARY: In accordance with 5 U.S.C., 4314(c)(4), Department of Commerce (DOC) announces the appointment of persons to serve as members of the Departmental Performance Review Board (DPRB). The DPRB provides an objective peer review of the initial performance ratings, performance-based pay adjustments and bonus recommendations, higher-level review requests and other performance-related actions submitted by appointing authorities for Senior Executive Service (SES) members whom they directly supervise, and makes recommendations based upon its review. The term of the new members of the DPRB will expire December 31, 2011.

DATES: Effective Date: The effective date of service of appointees to the Departmental Performance Review Board is based upon publication of this notice.

FOR FURTHER INFORMATION CONTACT: Denise A. Yaag, Director, Office of Executive Resources, Office of Human Resources Management, Office of the Director, 14th and Constitution Avenue, NW., Washington, DC 20230, (202) 482-3600.

SUPPLEMENTARY INFORMATION: The names and position titles of the members of the DPRB are set forth below by organization: Department of Commerce, Departmental Performance Review Board Membership, 2009-2011.

Office of the Secretary

Tene A. Dolphin, Director, Executive Secretariat.

Office of General Counsel

Michael A. Levitt, Assistant General Counsel for Legislation and Regulation.

Barbara S. Fredericks, Assistant General Counsel for Administration.

Chief Financial Officer and Assistant Secretary for Administration

William J. Fleming, Deputy Director for Human Resources Management.

Office of the Chief Information Officer

Earl B. Neal, Director of Information Technology, Security, Infrastructure and Technology.

Bureau of Industry and Security

Gay G. Shrum, Director of Administration.

Bureau of the Census

C. Harvey Monk, Associate Director for Economic Programs.

Economics and Statistics Administration

James K. White, Associate Under Secretary for Management.

Economics and Development Administration

Sandra Walters, Chief Financial Officer and Director of Administration.

International Trade Administration

Michelle O'Neill, Deputy Under Secretary for International Trade.

Stephen P. Jacobs, Deputy Assistant Secretary for Market Access and Compliance.

Minority Business Development Agency

Edith J. McCloud, Associate Director for Management.

National Oceanic and Atmospheric Administration

Robert J. Byrd, Chief Financial Officer/Chief Administrative Officer, NWS.

Joseph F. Klimavicz, Chief Information Officer and Director of High Performance Computing and Communications.

Maureen Wylie, Chief Financial Officer, NOAA.

Kathleen A. Kelly, Director, Office of Satellite Operations, NESDIS.

National Technical Information Service

Ellen Herbst, Director, National Technical Information Service.

National Telecommunications and Information Administration

Daniel C. Hurley, Director, Communications and Information Infrastructure Assurance Program.

National Institute of Standards and Technology

Richard F. Kayser, Jr., Special Assistant for Environment, Safety and Health.

Dated: September 16, 2009.
Denise A. Yang,
Director, Office of Executive Resources.

[FR Doc. E9-23345 Filed 9-28-09; 8:45 am]

BILLING CODE 3510-BS-M